DEPARTMENT OF COMMERCE

Economic Development Administration

Proposed Information Collection; Comment Request; Form ED-840P, Petition by a Firm for Certification of Eligibility To Apply for Trade Adjustment Assistance, and Adjustment Proposals; Trade Adjustment Assistance for Firms Program

AGENCY: Economic Development Administration (EDA), Department of Commerce.

ACTION: Notice.

SUMMARY: The Department of Commerce, as part of its continuing effort to reduce paperwork and respondent burden, invites the general public and other federal agencies to take this opportunity to comment on the proposed and/or continuing information collections, as required by the Paperwork Reduction Act of 1995.

DATES: Written comments must be submitted on or before April 15, 2019.

ADDRESSES: Direct all written comments and recommendations for the proposed information collection to Jennifer Jessup, Departmental Paperwork Clearance Officer, Department of Commerce, Room 6616, 1401 Constitution Avenue NW, Washington, DC 20230 (or via the internet at PRAcomments@doc.gov).

FOR FURTHER INFORMATION CONTACT: Requests for additional information or copies of the information collection instrument and instructions should be directed to Irette Patterson, Program Analyst, Trade Adjustment Assistance Division, Room 71030, Economic Development Administration, 1401 Constitution Ave. NW, Washington, DC 20230 at taac@eda.gov or 202-482-2743.

SUPPLEMENTARY INFORMATION:

I. Abstract

EDA administers the Trade Adjustment Assistance for Firms (TAAF) Program, which is authorized under chapters 3 and 5 of title II of the Trade Act of 1974, as amended (19 U.S.C. 2341-2356) (Trade Act), through a national network of non-profit and university-affiliated Trade Adjustment Assistance Centers (TAACs), each of which serves a different geographic region. EDA certifies firms as eligible to participate in the TAAF Program and provides funding to allow eligible client-firms to receive adjustment assistance through the TAACs. The information collected on Form ED-840P and relevant supporting documentation is used to determine whether a firm is eligible to participate in the TAAF Program. In accordance with the Trade Act and EDA's regulations as set out at 13 CFR part 315, EDA must verify that the following have occurred: (1) A significant reduction in the number or proportion of the workers in the firm, a reduction in the workers' wage or work hours, or an imminent threat of such reductions; (2) sales or production of the firm have decreased absolutely, or sales or production, or both, of any article or service accounting for at least 25 percent of the firm's sales or production has decreased absolutely; and (3) an increase in imports of articles or services like or directly competitive with those produced or provided by the petitioning firm, which has contributed importantly to the decline in employment and sales or production of that firm. Additionally, to document the connection of increased imports to declining employment and sales or production, the firm must demonstrate that its customers have reduced purchases from the firm in favor of buying items or services from foreign suppliers. The use of Form ED-840P standardizes and limits the information collected as part of the certification process and eases the burden on applicants and reviewers alike.

In addition, after being certified as eligible for TAAF Program assistance following submission of Form ED-840P, firms must create an EDA-approved adjustment proposal in order to receive financial assistance under the TAAF Program. The adjustment proposal is each firm's business plan to remain viable in the current global economy. Each adjustment proposal must meet certain requirements as set out in the Trade Act and EDA's regulation at 13 CFR 315.16. This notice also includes an estimate of the amount of time a firm spends to research and compile information for adjustment proposals.

II. Method of Collection

Form ED-840P may be obtained in Portable Document Format (PDF) from EDA or the TAACs upon request. TAACs are responsible for preparing the petition for certification on the firm's behalf. Although there is no form associated with adjustment proposals, they must meet the requirements for adjustment proposals set out in EDA's regulation at 13 CFR 315.16. Both petitions for certification on Form ED-840P and adjustment proposals may be submitted via email to taac@eda.gov or in hard copy to EDA at Trade Adjustment Assistance for Firms, 1401 Constitution Avenue NW, Room 71030, Washington DC 20230.

III. Data

OMB Control Number: 0610-0091.

Form Number(s): ED-840P.

Type of Review: Revision/Extension of a current information collection.

Affected Public: Businesses or other for-profit organizations.

Estimated Number of Respondents: 300 (150 petitions for certification and 150 adjustment proposals).

Estimated Time per Response: 128.2 hours (8.2 for petitions for certification and 120 for adjustment proposals).

Estimated Total Annual Burden Hours: 19,230 (1,230 for petitions for certification and 18,000 for adjustment proposals).

Estimated Total Annual Cost to Public: $ 1,346,100 ($86,100 for petitions for certification and $1,260,000 for adjustment proposals).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection. All comments submitted in response to this notice are a part of the public record and will be made available to the public, which may include posting them on the Regulations.gov website. Comments will generally be posted without change. Please do not include information of a confidential nature, such as sensitive personal information or proprietary information. All Personally Identifiable Information (for example, name and address) voluntarily submitted may be publicly accessible. If you send an email comment, your email address will be automatically captured and included as part of the comment that is placed in the public docket. Please note that comments that include a message stating the confidentiality of the communication will be treated as public comments and will be made available to the public.

Sheleen Dumas,
Departmental Lead PRA Officer, Office of the Chief Information Officer, Commerce Department.

[FR Doc. 2019-02132 Filed 2-12-19; 8:45 am]

BILLING CODE 3510-WH-P